DEPARTMENT OF DEFENSE

Office of the Secretary

[Transmittal No. 23-80]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 23-80 and Policy Justification.

Dated: December 17, 2024.
Stephanie J. Bost,
Alternate OSD Federal Register Liaison Officer, Department of Defense.

BILLING CODE 6001-FR-P

BILLING CODE 6001-FR-C

Transmittal No. 23-80

Notice of Proposed Issuance of Letter of Offer Pursuant to Section 36(b)(1) of the Arms Export Control Act, as amended

(i) Prospective Purchaser: NATO Support and Procurement Agency (NSPA)

(ii) Total Estimated Value:

Major Defense Equipment * | $ 0 million
Other | $150 million.
TOTAL | $150 million

Funding Source: National Funds

(iii) Description and Quantity or Quantities of Articles or Services under Consideration for Purchase:

Major Defense Equipment (MDE):

None

Non-MDE:

Contractor logistics support for the C-17 Strategic Airlift Capability program; U.S. Government and contractor engineering, technical, and logistics support services; and other related elements of logistics and program support.

(iv) Military Department: Air Force (K8-D-GAD)

(v) Prior Related Cases, if any: K8-D-QAG, K8-D-QAC

(vi) Sales Commission, Fee, etc., Paid, Offered, or Agreed to be Paid: None known at this time

(vii) Sensitivity of Technology Contained in the Defense Article or Defense Services Proposed to be Sold: None

(viii) Date Report Delivered to Congress: December 22, 2023

* As defined in Section 47(6) of the Arms Export Control Act.

POLICY JUSTIFICATION

NATO Support and Procurement Agency (NSPA)—C-17 Maintenance

The North Atlantic Treaty Organization (NATO) Support and Procurement Agency as Lead Nation has requested to buy contractor logistics support for the C-17 Strategic Airlift Capability program; United Stats (U.S.) Government and contractor engineering, technical, and logistics support services; and other related elements of logistics and program support. The estimated total cost is $150 million.

This proposed sale will support the foreign policy goals and national security objectives of the U.S. by improving the security of NATO partners that are a force for political stability and economic progress in the North Atlantic region.

The proposed sale will improve NATO's capability to meet current and future threats by improving and maintaining a flexible strategic airlift capability. The multinational Heavy Airlift Wing already has C-17s in its inventory and will have no difficulty absorbing these additional services into its armed services.

The proposed sale of this equipment and support will not alter the basic military balance in the region.

The principal contractor will be The Boeing Company, Arlington, VA. There are no known offset agreements proposed in connection with this potential sale.

Implementation of this proposed sale will not require the assignment of any additional U.S. Government or contractor representatives to NATO.

There will be no adverse impact on U.S. defense readiness as a result of this proposed sale.

[FR Doc. 2024-30634 Filed 12-23-24; 8:45 am]

BILLING CODE 6001-FR-P